NUCLEAR REGULATORY COMMISSION

[Docket Nos. 52-025 and 52-026; NRC-2008-0252]

Southern Nuclear Operating Company, Inc.; Notice of Availability of the Final Supplemental Environmental Impact Statement for Vogtle Electric Generating Plant Units 3 and 4; Combined License Application Review

Notice is hereby given that the U.S. Nuclear Regulatory Commission (NRC) has published a final supplemental environmental impact statement (FSEIS), NUREG-1947, Final Supplemental Environmental Impact Statement for Combined Licenses (COLs) at the Vogtle Electric Generating Plant Units 3 and 4: Final Report.”

The draft supplemental EIS was published in September 2010; a notice of availability appeared in the Federal Register on September 3, 2010 (75 FR 54146). The purpose of this notice is to inform the public that the FSEIS is available for public inspection. The FSEIS may be viewed online at: http://www.nrc.gov/reading-rm/doc-collections/nuregs/staff/sr1947. In addition, the FSEIS is available for inspection in the NRC Public Document Room (PDR) located at One White Flint North, 11555 Rockville Pike, Rockville, MD 20852 or from the NRC Agency-wide Documents Access and Management System (ADAMS). ADAMS is accessible from the NRC Web site at http://www.nrc.gov/reading-rm/adams.html, which provides access through the NRC Electronic Reading Room (ERR) link. The ADAMS accession number for the FSEIS is ML11076A010. Persons who do not have access to ADAMS or who encounter problems in accessing the documents located in ADAMS should contact the PDR reference staff by telephone at 1-800-397-4209/1-301-415-4737 or by e-mail to pdr.resource@nrc.gov.

In addition, the Burke County Library located at 130 Highway 24 So., Waynesboro, GA 30830-4572 has also agreed to make the FSEIS available to the public.

FOR FURTHER INFORMATION CONTACT: Ms. Mallecia Sutton, Project Manager, Environmental Projects Branch 1, Division of Site and Environmental Reviews, Office of New Reactors, U.S. Nuclear Regulatory Commission, Mail Stop T7103, Washington, DC 20555. Ms. Sutton may also be contacted at 301-415-0673 or via e-mail to Mallecia.Sutton@nrc.gov.

Dated at Rockville, Maryland this 18th day of March 2011.
For the Nuclear Regulatory Commission.
Nilesh Chokshi,
Deputy Director, Division of Site and Environmental Reviews, Office of New Reactors.

[FR Doc. 2011-6965 Filed 3-23-11; 8:45 am]

BILLING CODE 7590-01-P